DEPARTMENT OF THE INTERIOR

Bureau of Indian Affairs

Law and Order on Indian Reservations

AGENCY: Bureau of Indian Affairs, Interior.

ACTION: Notice—Intent to reassume judicial jurisdiction.

SUMMARY: This is a notice of the Bureau of Indian Affairs' intent to reassume judicial jurisdiction for the Otoe-Missouria Tribe of Oklahoma and administer court cases under the Court of Indian Offenses for the Southern Plains Region.

EFFECTIVE DATE: August 21, 2002.

FOR FURTHER INFORMATION CONTACT: Terry Bruner, Tribal Government Officer, Southern Plains Regional Office, Bureau of Indian Affairs, P.O. Box 368, WCD Office Complex, Anadarko, Oklahoma 73005, (405) 247-6673 ext 209, Fax 405-247-9240; or Ralph Gonzales, Branch of Judicial Services, Office of Tribal Services, Bureau of Indian Affairs, 1849 C Street, NW., MS 4660 MIB, Washington, DC 20240, (202) 208-4401.

SUPPLEMENTARY INFORMATION: This notice is published in accordance with the authority delegated by the Secretary of the Interior to the Assistant Secretary—Indian Affairs under part 209, Chapter 8, of the Departmental Manual (209 DM 8).

On May 29, 2002, the Otoe-Missouria Tribal Council, on behalf of the Otoe-Missouria Tribe of Oklahoma, adopted Resolution No. OMTC #05-29-02 FY2002, pursuant to 25 CFR 900.240-242. This resolution retrocedes the tribe's Public Law 93-638 contract for court funds to the Bureau of Indian Affairs and transfers all pending cases, except those limited under 25 CFR 11.104, to the Court of Indian Offenses for the Southern Plains Region. The Court of Indian Offenses for the Indian tribes located in western Oklahoma (now serviced by the Southern Plains Region) was established in response to the decisions of United States v. Littlechief, No. CR-76-207-D, and State of Oklahoma v. Littlechief, 573 P.2d 263 (Okla. Crim. App. 1976), which held that the State of Oklahoma lacked jurisdiction over matters occurring on trust or restricted lands (44 FR 37502). This Court of Indian Offenses continues to serve those tribes located in western Oklahoma that have not established tribal courts. Due to the Otoe-Missouria Tribe of Oklahoma's retrocession and closing of its tribal court, a jurisdictional vacuum has been created, which necessitates the Bureau of Indian Affairs immediately reassuming jurisdiction within the Indian country of the Otoe-Missouria Tribe of Oklahoma in order to protect lives, persons, and property of people residing within that jurisdiction until such time as the tribe reestablishes its tribal court consistent with 25 CFR 11.100(c). For this reason, effective August 21, 2002, the Bureau of Indian Affairs reassumes judicial jurisdiction for the Otoe-Missouria Tribe of Oklahoma.

Dated: August 2, 2002.
Neal A. McCaleb,
Assistant Secretary—Indian Affairs.

[FR Doc. 02-20853 Filed 8-15-02; 8:45 am]

BILLING CODE 4310-4J-P